DEPARTMENT OF THE INTERIOR

Bureau of Land Management

[LLWYR0000.L16100000.DP0000.LXSS042K0000]

Notice of Availability of Draft Resource Management Plans and Associated Environmental Impact Statement for the Bighorn Basin Resource Management Plan Revision Project, Cody and Worland Field Offices, Wyoming

AGENCY: Bureau of Land Management, Interior.

ACTION: Notice of Availability.

SUMMARY: In accordance with the National Environmental Policy Act (NEPA) of 1969, as amended, and the Federal Land Policy and Management Act (FLPMA) of 1976, as amended, the Bureau of Land Management (BLM) has prepared a Draft Resource Management Plan (RMP) for the Cody Field Office, a Draft RMP for the Worland Field Office, and an associated Draft Environmental Impact Statement (EIS). The two Draft RMPs and the associated Draft EIS comprise the Bighorn Basin RMP Revision Project (Project). By this notice, the BLM is announcing the opening of a 90-day comment period.

DATES: To ensure that comments are considered, the BLM must receive written comments on the Draft RMPs/EIS within 90 days following the date the Environmental Protection Agency publishes its notice of the Draft RMPs/EIS in the Federal Register. The BLM will announce future meetings or hearings and any other public participation activities at least 15 days in advance through public notices, media releases, and/or the Project Web site at http://www.blm.gov/wy/st/en/programs/Planning/RMPs/bighorn.html.

ADDRESSES: You may submit written comments related to the Project Draft RMPs/EIS by any of the following methods:

Web site: http://www.blm.gov/wy/st/en/programs/Planning/RMPs/bighorn.html.

E-mail: BBRMP_WYMail@blm.gov.

Mail: Worland Field Office, Attn: RMP Project Manager, 101 South 23rd Street, P.O. Box 119, Worland, Wyoming 82401.

Copies of the Draft RMPs/EIS are available at the following locations:

• Bureau of Land Management, Wyoming State Office, 5353 Yellowstone Road, Cheyenne, Wyoming 82003.

• Bureau of Land Management, Cody Field Office, 1002 Blackburn Avenue, Cody, Wyoming 82414.

• Bureau of Land Management, Worland Field Office, 101 South 23rd Street, Worland, Wyoming 82401.

FOR FURTHER INFORMATION CONTACT: Caleb Hiner, RMP Project Manager, telephone (307) 347-5171; address P.O. Box 119, 101 South 23rd Street, Worland, Wyoming 82401; e-mail caleb_hiner@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Planning Area for the Project includes lands within the BLM Cody and Worland Field Offices' administrative boundaries, in of Big Horn, Park, Washakie Counties, and Hot Springs Counties in north-central Wyoming. The Planning Area includes all lands, regardless of jurisdiction, totaling 5.6 million acres; however, the BLM will only make decisions on lands that fall under the BLM's jurisdiction. Lands within the Planning Area under the BLM's jurisdiction make up the Decision Area. The Decision Area consists of BLM-administered surface, totaling 3.2 million acres, and the Federal mineral estate, totaling 4.2 million acres. The revised RMPs will replace the Washakie and Grass Creek RMPs in Worland, Wyoming, and the Cody RMP in Cody, Wyoming.

The Draft RMPs/EIS includes a series of management actions, within four management alternatives, including the No Action Alternative, designed to address management challenges and issues raised during scoping, including, but not limited to: Recreation, Areas of Critical Environmental Concern (ACEC), wildlife habitats, livestock grazing, energy development, air quality and global climate change, and lands with wilderness characteristics and Wild Lands. The four alternatives are:

• Alternative A: Continue existing management practices (No Action Alternative);

• Alternative B: Foster conservation of natural and cultural resources while providing for compatible development and use;

• Alternative C: Emphasize resource development and use; and

• Alternative D: Provide development opportunities while protecting sensitive resources (Preferred Alternative).

The Preferred Alternative has been identified as described in 40 CFR 1502.14(e). However, identification of a Preferred Alternative does not represent the final agency decision. The BLM encourages comments on all alternatives and management actions described in the Draft RMPs/EIS and will assess and consider public comments properly received.

Pursuant to 43 CFR 1610.7-2(b), this notice announces a concurrent public comment period on proposed ACECs. A total of 18 ACECs are proposed in the Draft RMPs/EIS, 9 of which are existing ACECs. The proposed ACECs and the proposed resource use limitations that will occur for each proposed ACEC if formally designated are:

• Big Cedar Ridge (264 acres): Value(s) of Concern—Paleontological. Proposed Use Limitation(s)—Right-of-way (ROW) exclusion area, a no-surface occupancy (NSO) restriction applied to fluid mineral leases, closed to geophysical exploration, closed to mineral material disposals and related exploration and development activities, motorized vehicle use limited to existing roads and trails, and pursue a withdrawal from appropriation under the mining laws.

• Red Gulch Dinosaur Tracksite (1,798 acres): Value(s) of Concern—Paleontological. Proposed Use Limitation(s)—Closed to surface-disturbing activities except to enhance public education, heavy equipment restriction on fire suppression activities, motorized vehicle use limited to designated roads and trails, interpretive area closed to livestock grazing, an NSO restriction applied to fluid mineral leases, and pursue a withdrawal from appropriation under the mining laws.

• Sheep Mountain Anticline (11,528 acres): Value(s) of Concern—Geologic, Caves, Cultural and Scenic. Proposed Use Limitation(s)—Motorized vehicle use limited to designated roads and trails, generally closed to surface-disturbing activities, unavailable for fluid mineral leasing, and pursue a withdrawal from appropriation under the mining laws.

• Spanish Point Karst (6,627 acres): Value(s) of Concern—Caves, Recreational, Sinking Stream Segments and Water Quality. Proposed Use Limitation(s)—Unavailable for fluid mineral leasing, closed to geophysical exploration, closed to off highway vehicle use, ROW avoidance/mitigation area, and pursue a withdrawal from appropriation under the mining laws.

• Brown/Howe Dinosaur Area (5,517 acres with an expansion to 15,246 acres): Value(s) of Concern—Paleontological. Proposed Use Limitation(s)—Closed to mineral material disposals, unavailable for fluid mineral leasing, ROW avoidance/mitigation area, and pursue a withdrawal from appropriation under the mining laws.

• Carter Mountain (10,867 acres with an expansion to 16,573 acres): Value(s) of Concern—Vegetation, Wildlife, Cultural, Recreational, Special Status Species, Watershed and Soils. Proposed Use Limitation(s)—Heavy equipment restriction on fire suppression activities, ROW avoidance/mitigation area, motorized vehicle use limited to designated roads and trails, closed to surface-disturbing activities on slopes greater than 7 percent, unavailable for fluid mineral leasing, closed to mineral material disposals, and pursue a withdrawal from appropriation under the mining laws.

• Five Springs Falls (163 acres with an expansion to 1,809 acres): Value(s) of Concern—Recreational, Scenic, Special Status Species, Geologic and Public Safety. Proposed Use Limitation(s)—Heavy equipment restriction on fire suppression activities, ROW avoidance/mitigation area, climbing not allowed on the cliff that forms the falls, motorized vehicle use limited to designated roads and trails, and unavailable for fluid mineral leasing.

• Little Mountain (21,475 acres with an expansion to 69,110 acres): Value(s) of Concern—Caves, Cultural, Paleontological, Scenic, Recreational, Special Status Species, Vegetation and Wildlife. Proposed Use Limitation(s)—Heavy equipment restriction for fire suppression activities, motorized vehicle use limited to designated roads and trails, a ROW avoidance/mitigation area, unavailable for fluid mineral leasing, and pursue a withdrawal from appropriation under the mining laws.

• Upper Owl Creek Area (13,057 acres with an expansion to 32,777): Value(s) of Concern—Cultural, Fish, Recreational, Scenic, Soils, Special Status Species, Vegetation and Wildlife. Proposed Use Limitation(s)—Motorized vehicle use limited to designated roads and trails, closed to surface-disturbing activities, pursue a withdrawal from appropriation under the mining laws for 13,238 acres, ROW avoidance/mitigation area, and unavailable for fluid mineral leasing.

• Chapman Bench (23,976 acres): Value(s) of Concern—Special Status Species, Vegetation, and Wildlife. Proposed Use Limitation(s)—Motorized vehicle use limited to existing roads and trails pursue a withdrawal from appropriation under the mining laws, closed to mineral material disposals, unavailable for fluid mineral leasing, closed to surface-disturbing activities, and ROW avoidance/mitigation area.

• Clarks Fork Basin/Polecat Bench West Paleontological Area (23,895 acres): Value(s) of Concern—Paleontological and Scenic. Proposed Use Limitation(s)—Closed to surface-disturbing activities, closed to mineral material disposals, unavailable for fluid mineral leasing, pursue a withdrawal from appropriation under the mining laws, motorized vehicle use limited to designated roads and trails, and renewable energy ROW exclusion area.

• Clarks Fork Canyon (12,259 acres): Value(s) of Concern—Geologic, Open Space, Recreational, Special Status Species, and Wildlife. Proposed Use Limitation(s)—Close 1,211 acres to motorized vehicle use with the remainder limited to designated roads and trails, closed to surface-disturbing activities, closed to mineral material disposals, closed to geophysical exploration, unavailable for fluid mineral leasing, pursue a withdrawal from appropriation under the mining laws, renewable energy ROW exclusion area, and ROW avoidance/mitigation area.

• Foster Gulch Paleontological Area (27,302 acres): Value(s) of Concern—Paleontological and Scenic. Proposed Use Limitation(s)—Renewable energy ROW exclusion area, motorized vehicle use limited to designated roads and trails, closed to surface-disturbing activities, closed to mineral material disposals, unavailable for fluid mineral leasing, and pursue a withdrawal from appropriation under the mining laws.

• McCullough Peaks South Paleontological Area (6,994 acres): Value(s) of Concern—Paleontological and Scenic. Proposed Use Limitation(s)—Unavailable for fluid mineral leasing, pursue a withdrawal from appropriation under the mining laws, closed to mineral material disposals, renewable energy ROW avoidance/mitigation area, motorized vehicle use limited to designated roads and trails, closed to surface-disturbing activities, and ROW avoidance/mitigation area.

• Rainbow Canyon (1,433 acres): Value(s) of Concern—Geologic, Paleontological, and Scenic. Proposed Use Limitation(s)—Unavailable for fluid mineral leasing, pursue a withdrawal from appropriation under the mining laws, closed to mineral material disposals, renewable energy ROW avoidance/mitigation area, motorized vehicle use limited to designated roads and trails, closed to surface-disturbing activities, and ROW avoidance/mitigation area.

• Rattlesnake Mountain (19,119 acres): Value(s) of Concern—Special Status Species, Vegetation and Wildlife. Proposed Use Limitation(s)—Motorized vehicle use limited to designated roads and trails, closed to mineral material disposals, unavailable for fluid mineral leasing, closed to surface-disturbing activities, ROW exclusion area, and pursue a withdrawal from appropriation under the mining laws.

• Sheep Mountain (25,153 acres): Value(s) of Concern—Special Status Species, Vegetation and Wildlife. Proposed Use Limitation(s)—Motorized vehicle use limited to designated roads and trails, unavailable for fluid mineral leasing, closed to mineral material disposals, pursue a withdrawal from appropriation under the mining laws, closed to surface-disturbing activities, and ROW avoidance/mitigation area.

• Paleocene and Eocene Thermal Maximum (14,906 acres): Value(s) of Concern—Paleontological. Proposed Use Limitation(s)—NSO restriction applied to fluid mineral leases, and closed to mineral material disposals.

Alternative A proposes to maintain the nine existing ACECs. Alternative B proposes to establish all of the ACECs listed above, with expansions, except Paleocene and Eocene Thermal Maximum. Alternative C proposes to maintain only Spanish Point Karst and Brown/Howe Dinosaur Area as ACECs. Alternative D, the Preferred Alternative, proposes ACEC designation for Big Cedar Ridge (264 acres); Red Gulch Dinosaur Tracksite (1,798 acres); Sheep Mountain Anticline (11,528 acres); Spanish Point Karst (6,627 acres); Brown/Howe Dinosaur Area (5,517 acres); Carter Mountain (10,867 acres); Five Springs Falls (163 acres); Little Mountain (21,475 acres); Upper Owl Creek (13,057 acres); Clarks Fork Canyon (2,724 acres); Sheep Mountain (14,201 acres); and Paleocene, Eocene Thermal Maximum (14,906 acres) for a total of 103,087 acres proposed to be managed as ACECs.

The BLM initiated a Wild and Scenic Rivers (WSR) review of all BLM-administered public lands along waterways within the Worland and Cody planning areas. The BLM requests the public to submit information regarding the suitability of eligible river segments for inclusion in the National Wild and Scenic Rivers System. The BLM will use comments submitted during the announced comment period to gather additional data to determine suitability for inclusion into the National Wild and Scenic Rivers System. You may submit comments in writing to the BLM at any public meeting, or you may submit them to the BLM using one of the methods listed in the ADDRESSES section above. In order to reduce the use of paper and control costs, the BLM strongly encourages the public to submit comments electronically at the project Web site or via e-mail. Only comments submitted using the methods described in the ADDRESSES section above will be accepted. Comments submitted must include the commenter's name and street address. Whenever possible, please include reference to either the page or section in the Draft RMPs/EIS to which the comment applies. Please note that public comments and information submitted—including names, street addresses and e-mail addresses of persons who submit comments—will be available for public review and disclosure at the above address during regular business hours (8 a.m. to 4 p.m.), Monday through Friday, except holidays.

Before including your address, phone number, e-mail address, or other personal identifying information in your comment, you should be aware that your entire comment—including your personal identifying information-may be made publicly available at any time. While you can ask us in your comment to withhold your personal identifying information from public review, we cannot guarantee that we will be able to do so.

Authority: 40 CFR 1506.6, 1506.10 and 43 CFR 1610.2, 1610.7-2 and 8350.

Ruth Welch,
Associate State Director.

[FR Doc. 2011-9703 Filed 4-21-11; 8:45 am]

BILLING CODE 4310-22-P